DEPARTMENT OF HOMELAND SECURITY

Coast Guard

[USCG-2006-24971]

Chemical Transportation Advisory Committee

AGENCY: Coast Guard, DHS.

ACTION: Notice of meeting.

SUMMARY: The Chemical Transportation Advisory Committee (CTAC) Subcommittee on Hazardous Cargo Transportation Security (HCTS) will meet to discuss various issues relating to the marine transportation of hazardous materials in bulk. The CTAC Working Groups on Barge Emissions and Placarding, the International Convention for the Prevention of Pollution from Ships, 1973 (MARPOL) Annex II and Marine Vapor Control Systems will also meet to discuss environmental issues and future changes to regulations. These meetings will be open to the public.

DATES: The MARPOL Annex II Working Group will meet on Wednesday, June 14, 2006, from 8:30 a.m. to 3 p.m. The Marine Vapor Control System Working Group will meet on Wednesday, June 14, 2005 from 3 p.m. to 5 p.m. The HCTS Subcommittee will meet on Thursday, June 15, 2006, from 8:30 a.m. to 4 p.m. The Barge Emissions and Placarding Working Group will meet on Friday, June 16, 2006, from 8:30 a.m. to 4 p.m. These meetings may close early if all business is finished. Written material and requests to make oral presentations should reach the Coast Guard on or before June 12, 2006. Requests to have a copy of your material distributed to each member of the Committee should reach the Coast Guard on or before June 12, 2006.

ADDRESSES: All meetings will be held at Stolthaven Houston, 15635 Jacintoport Blvd, Houston, TX 77015. Send written material and requests to make oral presentations to Commander Robert J. Hennessy, Executive Director of CTAC, Commandant (G-PSO-3), U.S. Coast Guard Headquarters, 2100 Second Street S.W., Washington, DC 20593-0001 or E-mail: CTAC@comdt.uscg.mil. This notice is available on the Internet at http://dms.dot.gov.

FOR FURTHER INFORMATION CONTACT: Commander Robert J. Hennessy, Executive Director of CTAC, or Ms. Sara Ju, Assistant to the Executive Director, telephone 202-372-1425, fax 202-372-1926.

SUPPLEMENTARY INFORMATION: Notice of these meetings is given under the Federal Advisory Committee Act, 5 U.S.C. App. 2.

Agenda of MARPOL Annex II Working Group Meeting on Wednesday, June 14, 2006

(1) Introduce Working Group members and attendees.

(2) Review and edit draft guidance document for the U.S. implementation of revisions to MARPOL Annex II and the International Code for the Construction and Equipment of Ships Carrying Dangerous Chemicals in Bulk (IBC Code).

Agenda of Marine Vapor Control Systems Working Group Meeting on Wednesday, June 14, 2006

(1) Introduce Working Group members and attendees.

(2) Review task statement.

(3) Review vapor balancing operations during cargo unloading.

(4) Review previous CTAC recommendations on vapor balancing operations during cargo unloading.

Agenda of the HCTS Subcommittee on Thursday, June 15, 2006

(1) Introduce Subcommittee members and attendees.

(2) Develop guidance for updating definition of certain dangerous cargo (CDC) residues.

(3) Discuss current Notice of Arrival regulations.

Agenda of Barge Emissions and Placarding Working Group Meeting on Friday, June 15, 2006

(1) Introduce Working Group members and attendees.

(2) Review responsibilities for local responders to marine incidents.

(3) Develop guidance for identifying cargoes on inland barges for first responders.

Procedural

These meetings are open to the public. Please note that the meetings may close early if all business is finished. At the discretion of the Chair, members of the public may make oral presentations during the meetings generally limited to 5 minutes. If you would like to make an oral presentation at a meeting, please notify the Executive Director and submit written material on or before June 12, 2006. If you would like a copy of your material distributed to each member of the Committee in advance of a meeting, please submit 25 copies to the Executive Director (see ADDRESSES) no later than June 12, 2006.

Information on Services for Individuals With Disabilities

For information on facilities or services for individuals with disabilities, or to request special assistance at the meeting, telephone the Executive Director as soon as possible.

Dated: May 31, 2006.
Howard L. Hime,
Acting Director of Standards, Assistant Commandant for Prevention.

[FR Doc. E6-8779 Filed 6-6-06; 8:45 am]

BILLING CODE 4910-15-P